Title 3—

The President

Proclamation 9590 of April 7, 2017

Pan American Day and Pan American Week, 2017

By the President of the United States of America

A Proclamation

Pan American Day and Pan American Week commemorate the 127th anniversary of the conclusion of the First International Conference of American States. This inter-American gathering planted the seed for the creation of the Organization of American States, an enduring organization for the promotion of democracy, security, human rights, and economic development throughout the Americas. Pan American Day and Pan American Week remind us to reflect on the shared history of the Americas and the Caribbean and to commit to strengthening relationships with our regional partners based on common interests and shared values.

My Administration is dedicated to improving border security, dismantling transnational criminal networks, and combating terrorism to ensure the safety of our citizens. We are committed to constructive and cooperative engagement with our longstanding Pan American partners, building on existing linkages and forging new relationships, to advance these critical objectives.

The governments and people of the Americas are united through longstanding institutional, economic, cultural, and social bonds. In conversations and meetings with regional leaders, I continue to reinforce America's commitment to those bonds and to advancing the Pan American ideals of peace and prosperity across the Western Hemisphere. As these conversations continue, we will find new ways to promote enhanced, reciprocal relationships among the Pan American States, advancing the well-being of people throughout the region.

As we celebrate Pan American Day and Pan American Week, commemorating the formation of our Pan American partnership on April 14, 1890, let us reaffirm our close ties and pledge to work together on shared priorities that are vital to the interests of our countries.

NOW, THEREFORE, I, DONALD J. TRUMP, President of the United States of America, by virtue of the authority vested in me by the Constitution and the laws of the United States, do hereby proclaim April 14, 2017, as Pan American Day and April 9 through April 15, 2017, as Pan American Week. I call upon the people of the United States to observe this day with appropriate ceremonies and activities.

IN WITNESS WHEREOF, I have hereunto set my hand this seventh day of April, in the year of our Lord two thousand seventeen, and of the Independence of the United States of America the two hundred and forty-first.

[FR Doc. 2017-07578

Filed 4-12-17; 8:45 am]

Billing code 3295-F7-P